DEPARTMENT OF TRANSPORTATION

Federal Aviation Administration

[Policy Statement No. ANE-2006-33.7-4-1]

Policy for Diesel (Compression Ignition) Engine Certification

AGENCY: Federal Aviation Administration, DOT.

ACTION: Notice of issuance; policy statement.

SUMMARY: The Federal Aviation Administration (FAA) announces the final policy for Policy for Diesel (Compression Ignition) Engine Certification.

DATES: The FAA issued policy statement number ANE-2006-33.7-4-1 on September 6, 2007.

FOR FURTHER INFORMATION CONTACT: Mark Rumizen, FAA, Engine and Propeller Standards Staff, ANE-111, 12 New England Executive Park, Burlington, MA 01803; e-mail: mark.rumizen@faa.gov; telephone: (781) 238-7113, fax: (781) 238-7199. The policy statement is available on the Internet at the following address: http://www.airweb.faa.gov/rgl. If you do not have access to the Internet, you may request a copy of the policy by contacting the individual listed in this section.

SUPPLEMENTARY INFORMATION: The FAA published the policy on the Internet at http://www.faa.gov/aircraft/draft_doc/ on December 9, 2006.

We have filed in the docket all comments we received, as well as a report summarizing each substantive public contact with FAA personnel concerning this policy. The docket is available for public inspection. If you wish to review the docket in person, go to the above address between 9 a.m. and 5 p.m., Monday through Friday, except Federal holidays.

Background

Several diesel engine models were certified in the United States and Europe before World War II. However, the development of higher performance spark-ignition engines fueled by leaded aviation gasoline (AVGAS) during that conflict resulted in a suspension of further development of these engines. Interest in diesel aircraft engines has recently been renewed in response to the demand for engines that do not require leaded fuel for operation. Many new issues develop as modern diesel engine technology is integrated into these aircraft engines. This policy does not create any new requirements.

Authority: 49 U.S.C. 106(g), 40113, 44701-44702, 44704.

Dated: Issued in Burlington, Massachusetts, on September 6, 2007.
Francis A. Favara,
Manager, Engine and Propeller Directorate, Aircraft Certification Service.

[FR Doc. 07-4696 Filed 9-20-07; 8:45 am]

BILLING CODE 4910-13-M